DEPARTMENT OF COMMERCE

National Oceanic and Atmospheric Administration

[I.D. 011707C]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, in Portland, OR.

DATES: The North Pacific Fishery Management Council will meet on February 5-13, 2007. See SUPPLEMENTARY INFORMATION for specific dates and times. All meetings are open to the public, except executive sessions.

ADDRESSES: The meetings will be held at the Benson Hotel, 309 Southwest Broadway, Portland, OR 97205.

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Wednesday, February 7, continuing through February 13, 2007. The Council's Advisory Panel (AP) will begin at 8 a.m., Monday, February 5 and continue through Saturday February 10. The Scientific and Statistical Committee (SSC) will begin at 8 a.m. on Wednesday, February 5 and continue through Friday February 7, 2007. The Enforcement Committee will meet Tuesday, February 6, from 9 a.m. to 12 p.m. in the Parliament Room 3&4; the Ecosystem Committee will meet February 6, from 1 p.m. to 5 p.m. in the Parliament Room 3&4.

Council Plenary Session: The agenda for the Council's plenary session will include the following issues. The Council may take appropriate action on any of the issues identified.

1. Reports

Executive Director's Report (including Magnuson-Stevens Act Update)

NMFS Management Report (including legal opinion on Community Development Quotas (CDQ) (T) and Agency report on Area 2A catch sharing plan)

Enforcement Report

U.S. Coast Guard Report

Alaska Department of Fish & Game Report

U.S. Fish & Wildlife Service Report

U.S. Department of State Report

International Pacific Halibut Commission Report

Protected Species Report (including SSC review of List of Fisheries methodology and Steller Sea Lion Mitigation (SSLMC) ranking tool)

2. Programmatic Supplemental Environmental Impact Statement: Review and adopt revised workplan.

3. American Fisheries Act (AFA) Pollock Cooperatives (Coop): Review Coop reports for 2006, and plans for 2007.

4. Seabird Interactions: Final action to revise regulations. (T)

5. Charter Halibut Management: Review report on Area 2A catch sharing plan (report under B-2); initial review of moratorium analysis; review workplan for regulatory amendment package (SSC only).

6. Trawl License Limitation Program (LLP) Recency: Initial review of analysis. (T)

7. Trawl License Limitation Program Recency: Preliminary review of analysis and direction as necessary.

8. Bering Sea and Aleutian Island split for Pacific cod: Review discussion paper; Pacific cod genetics workshop (SSC only).

9. Gulf of Alaska (GOA) Groundfish Management Issues: Review discussion paper on sector splits and latent licenses.

10. Vessel Monitoring Systems (VMS) Requirements: Preliminary review of draft analysis to implement comprehensive VMS program.

11. Groundfish Management: Initial review Dark Rockfish management amendment package; review summary of Center for Independent Experts Report on rockfish (SSC only); review discussion paper on GOA arrowtooth Maximum Retainable Amount (MRA). (T)

12. Bering Sea Aleutian Island Crab (BSAI): Initial review of BSAI crab overfishing definition analysis; discussion paper on Aleutian Island crab custom processing caps; review information on crab vessel use caps; discuss proposed contents of crab rationalization 18 month review report.

13. Salmon Bycath: Update on BSAI Amendment 84; review discussion paper on process to estimate interim caps/spatial analysis, and refine alternatives as necessary.

14. Habitat Conservation: Initial review of analysis to adjust the Aleutian Island Habitat Conservation Area; preliminary review of analysis to conserve Bering Sea habitat.

15. Staff Tasking: Review Committees and tasking and take action as necessary; review progress report on Aleutian Island Fishery Ecosystem Plan.

16. Other Business

The SSC agenda will include the following issues:

1. Protected Species

2. Seabird Interactions (T)

3. Halibut Charter Management

4. Trawl LLP Recency

5. Pacific cod genetics

6. VMS requirements

7. Groundfish Management

8. BSAI Crab

9. Salmon Bycatch

10. Habitat Conservation

11. Aleutian Island Fishery Ecosystem Plan

The Advisory Panel will address the same agenda issues as the Council.

Special Accommodations

These meetings are physically accessible to people with disabilities. Requests for sign language interpretation or other auxiliary aids should be directed to Gail Bendixen at (907) 271-2809 at least 7 working days prior to the meeting date.

Dated: January 17, 2007.
James P. Burgess,
Acting Director, Office of Sustainable Fisheries, National Marine Fisheries Service.

[FR Doc. E7-830 Filed 1-19-07; 8:45 am]

BILLING CODE 3510-22-S